DEPARTMENT OF HEALTH AND HUMAN SERVICES

Administration for Children and Families

[CFDA Number: 93.623]

Announcement of the Award of a Single-Source Expansion Supplement Grant to National Safe Place in Louisville, KY

AGENCY: Family and Youth Services Bureau (FYSB), ACYF, ACF, DHHS.

ACTION: Notice of the award.

SUMMARY: The Administration for Children and Families (ACF), Administration on Children, Youth and Families (ACYF), Family and Youth Services Bureau (FYSB), Division of Adolescent Development and Support (DADS) announces the award of a single-source expansion supplement grant of $610,000 to Safe Place in Louisville, KY, to support costs associated with the expansion of the scope of approved activities under their award for the Runaway and Homeless Youth Training and Technical Assistance Center (RHYTTAC).

DATES: The award will support activities from August 1, 2014 through September 29, 2014.

FOR FURTHER INFORMATION CONTACT: Christopher Holloway, Central Office Program Manager, Runaway and Homeless Youth Program, Division of Adolescent Development and Support, Family and Youth Services Bureau, 1250 Maryland Avenue SW., Suite 800, Washington, DC 20024; Telephone: 202-205-9560; Email: Christopher.Holloway@acf.hhs.gov

SUPPLEMENTARY INFORMATION: The expansion supplement award will allow National Safe Place to:

• Assist runaway and homeless youth (RHY) organizations with understanding and responding to the impact of toxic stress in the workplace through the creation of an annotated resource directory and distribution of other materials related to Toxic Stress Awareness and Response.

• Provide training and technical assistance (T & TA) to RHY grantees on enhancing sustainability and for the development of an RHY Sustainability Toolkit containing an extensive compilation of generalized information for sustainability of RHY organizations.

• Extend the Human Trafficking (HTR3) project to build upon and expand efforts in assisting programs with making the transition from understanding how to recognize and respect the victims of human trafficking to responding to the diverse needs of victims through the development of effective organizational practices and community collaborations.

Using evidence-based practices derived from the best available research, professional expertise, and input from youth and families, the Runaway and Homeless Youth Training and Technical Assistance Center (RHYTTAC), operated by the National Safe Place, serves as the centralized national resource for FYSB-funded RHY grantees. Training and technical assistance services are directed to assisting RHY grantees in engaging in continuous quality improvement of their services and to assist them in building their organizational capacity to effectively serve RHY with a focus on helping the nation's network of RHY service providers boost “protective factors” for their clients.

Statutory Authority: Runaway and Homeless Youth Act, 42 U.S.C. 5701 through 5752, amended by the Reconnecting Homeless Youth Act of 2008, Public Law 110-378.

Christopher Beach,
Senior Grants Policy Specialist, Office of Administration, Division of Grants Policy.

[FR Doc. 2014-27738 Filed 11-21-14; 8:45 am]

BILLING CODE 4184-04-P